DEPARTMENT OF THE INTERIOR

Bureau of Land Management; Alaska

[AK-962-1410-HY-P, F-14909-A, F-14909-A2, F-19148-38]

Alaska Native Claims Selection; Notice for Publication

In accordance with Departmental regulation 43 CFR 2650.7(d), notice is hereby given that a decision to issue conveyance under the provisions of Sec. 14(a) of the Alaska Native Claims Settlement Act of December 18, 1971, 43 U.S.C. 1613(a), will be issued to Kuukpik, Corporation for approximately 15,987 acres. The corresponding subsurface estate will be conveyed to Arctic Slope Regional Corporation pursuant to Sec. 1431(o) of the Alaska National Interest Lands Conservation Act of December 2, 1980, Pub. L. 96-487, 94 Stat. 2533. The lands involved are in the vicinity of Nuiqsut, Alaska, within the following townships:

Umiat Meridian, Alaska

T. 11 N., R. 3 E.

T. 10 N., R. 4 E.

T. 11 N., R. 4 E.

A notice of this decision will be published once a week, for four (4) consecutive weeks, in the Arctic Sounder. Copies of the decision may be obtained by contacting the Alaska State Office of the Bureau of Land Management, 222 West Seventh Avenue, #13, Anchorage, Alaska 99513-7599 ((907) 271-5960).

Any party claiming a property interest which is adversely affected by the decision, an agency of the Federal government, or regional corporation, shall have until November 29, 2000 to file an appeal. However, parties receiving service by certified mail shall have 30 days from the date of receipt to file an appeal. Appeals must be filed in the Bureau of Land Management at the address identified above, where the requirements for filing an appeal may be obtained. Parties who do not file an appeal in accordance with the requirements of 43 CFR part 4, Subpart E, shall be deemed to have waived their rights.

Nancy Larsen,
Land Law Examiner, Branch of ANCSA Adjudication.

[FR Doc. 00-27730 Filed 10-27-00; 8:45 am]

BILLING CODE 4310-JA-P